ENVIRONMENTAL PROTECTION AGENCY

40 CFR Part 761

[EPA-HQ-RCRA-2013-0396; FRL-9917-21-OSWER]

RIN 2050-AG79

Polychlorinated Biphenyls (PCBs): Manufacturing (Import) Exemption for the Defense Logistics Agency (DLA)

AGENCY: Environmental Protection Agency (EPA).

ACTION: Final rule.

SUMMARY: The U.S. Environmental Protection Agency (EPA or the Agency) is taking final action on a petition from the United States Defense Logistics Agency (DLA) to import foreign-manufactured polychlorinated biphenyls (PCBs). For purposes of the Toxic Substances Control Act (TSCA), “manufacture” is defined to include the import of chemical substances into the customs territory of the United States. With certain exceptions, section 6(e)(3) of TSCA bans the manufacture, processing, and distribution in commerce of PCBs. One of these exceptions is TSCA section 6(e)(3)(B), which gives the EPA authority to grant petitions to import PCBs into the customs territory of the United States for a period of up to 12 months, provided the EPA can make certain findings by rule. On April 23, 2013, the EPA received a petition from DLA, a component of the United States Department of Defense (DOD), to import PCBs that DOD currently owns in Japan for disposal in the United States. The EPA is granting DLA's petition as of October 1, 2014. This decision to grant the petition allows DLA to “manufacture” (i.e., import) certain PCBs for disposal. Without an exemption granted by the EPA, DLA would not be allowed to import the PCB waste to the U.S. for proper disposal.

DATES: This final rule is effective October 1, 2014.

ADDRESSES: The EPA has established a docket for this action under Docket ID No. EPA-HQ-RCRA-2013-0396. All documents in the docket are listed on the www.regulations.gov Web site. Although listed in the index, some information is not publicly available, e.g., CBI or other information whose disclosure is restricted by statute. Certain other material, such as copyrighted material, is not placed on the Internet and will be publicly available only in hard copy form. Publicly available docket materials are available either electronically through www.regulations.gov or in hard copy at the RCRA Docket, EPA/DC, WJC West, Room 3334, 1301 Constitution Ave. NW., Washington, DC. The Public Reading Room is open from 8:30 a.m. to 4:30 p.m., Monday through Friday, excluding legal holidays. The telephone number for the Public Reading Room is (202) 566-1744, and the telephone number for the RCRA Docket is (202) 566-0270.

FOR FURTHER INFORMATION CONTACT: William Noggle, U.S. Environmental Protection Agency, Office of Resource Conservation and Recovery, (MC: 5304P), 1200 Pennsylvania Avenue NW, Washington, DC 20460, Phone: 703-347-8769; or by email: noggle.william@epa.gov.

SUPPLEMENTARY INFORMATION:

I. General Information

A. Does this action apply to me?

This action applies to the petitioner, the U.S. Defense Logistics Agency. However, you may be potentially affected by this action if you process, distribute in commerce, or dispose of the PCB waste imported by DLA, i.e., you are an EPA-permitted PCB waste handler. Potentially affected categories and entities include, but are not necessarily limited to:

• Waste treatment and disposal (North American Industrial Classification System (NAICS) code 5622), e.g., facilities that store or dispose of PCB waste.

• Materials recovery facilities (NAICS code 56292), e.g., facilities that process and/or recycle metals.

• Public administration (NAICS code 92), e.g., the petitioning agency (i.e., the DLA).

This listing is not intended to be exhaustive, but rather provides a guide for readers regarding entities potentially affected by this action. Other types of entities not listed in this section could also be affected. The NAICS codes have been provided to assist you and others in determining whether this action might apply to certain entities. To determine whether you or your business may be affected by this action, you should carefully examine the applicability provisions in 40 Code of Federal Regulations (CFR) part 761. If you have any questions regarding the applicability of this action to a particular entity, consult the person listed under the FOR FURTHER INFORMATION CONTACT section of this document.

II. Background

Section 6(e)(3)(A) of TSCA prohibits the manufacture, which includes the import of chemical substances into the customs territory of the United States, processing, and distribution in commerce of PCBs, except for the distribution in commerce of PCBs that were sold for purposes other than resale before April 1, 1979. Section 6(e)(1) of TSCA also authorizes the EPA to regulate the disposal of PCBs consistent with the provisions in section 6(e)(2) and (3) of TSCA.

Section 6(e)(3)(B) of TSCA, however, stipulates that any person may petition the EPA Administrator for an exemption from the prohibition on the manufacture, processing, and distribution in commerce of PCBs. The Administrator may by rule grant an exemption if the Administrator finds that:

(i) An unreasonable risk of injury to health or the environment would not result, and (ii) good faith efforts have been made to develop a chemical substance which does not present an unreasonable risk of injury to health or the environment and which may be substituted for such polychlorinated biphenyl. (15 U.S.C. 2605(e)(3)(B)(i)-(ii)).

The Administrator may prescribe terms and conditions for an exemption and may grant an exemption for a period of not more than one year from the date the petition is granted. In addition, section 6(e)(4) of TSCA requires that a rule under section 6(e)(3)(B) of TSCA be promulgated in accordance with sections 6(c)(2), (3) and (4) of TSCA, which provide for publication of a proposed rule, the opportunity for written comments and an informal hearing, if requested, and publication of a final rule.

EPA's procedures for rulemaking under section 6 of TSCA are found under 40 CFR part 750. This part includes Subpart B—Interim Procedural Rules for Manufacturing Exemptions, which describes the required content for manufacturing exemption petitions and the procedures that the EPA follows in rulemaking regarding these petitions. These rules are codified at 40 CFR 750.10 through 750.21.

III. Findings Necessary to Grant Petitions

A. No Unreasonable Risk Finding

Before granting an exemption petition, section 6(e)(3)(B)(i) of TSCA requires the Administrator to find that granting an exemption would not result in an unreasonable risk of injury to health or to the environment. The EPA expects a petitioner to demonstrate in its petition that the activity will not pose an unreasonable risk. (See 40 CFR 750.11).

To determine whether a risk is unreasonable, the EPA balances the probability that harm will occur to health or to the environment against the benefits to society from granting or denying each petition. See generally, 15 U.S.C. 2605(c)(1). Specifically, the EPA considers the following factors:

1. Effects of PCBs on human health and the environment. In deciding whether to grant an exemption, the EPA considers the magnitude of exposure and the effects of PCBs on humans and the environment. The following discussion summarizes EPA's assessment of these factors. A more complete discussion of human health and environmental effects of PCBs is provided in the advance notice of proposed rulemaking for the reassessment of PCB use authorizations in the Federal Register of April 7, 2010 (75 FR 17645) (Ref. 5). The Agency for Toxic Substances and Disease Registry (ATSDR) Toxicological Profile for PCBs (2000) has also provided a recent review of PCB human health and environmental effects (Ref. 6).

a. Health effects. The EPA has determined that PCBs cause significant human health effects, including cancer (classified as a probable human carcinogen), immune system suppression, liver damage, skin irritation, and endocrine disruption. PCBs also exhibit neurotoxicity, as well as reproductive and developmental toxicity. PCBs are readily absorbed through the skin and are absorbed at even faster rates when inhaled. Because PCBs are stored in animal fatty tissue, humans are also exposed to PCBs through ingestion of animal products.

b. Environmental effects. Certain PCB congeners are among the most stable chemicals known, and decompose very slowly once they are released into the environment. PCBs are absorbed and stored in the fatty tissue of higher organisms as they bioaccumulate up the food chain through invertebrates, fish, and mammals. Significantly, bioaccumulated PCBs appear to be even more toxic than those found in the ambient environment, since the more toxic PCB congeners are more persistent and thus more likely to be retained. PCBs also have reproductive and other toxic effects in aquatic organisms, birds, and mammals.

c. Risks. Toxicity and exposure are the two basic components of risk. The EPA has concluded that exposure of humans or the environment to PCBs may be significant, depending on such factors as the quantity of PCBs involved in the exposure and the effect of exposure. Minimizing exposure to PCBs should minimize potential risk. As shown through the 40 CFR part 761 regulations that detail proper disposal and storage options, the EPA has previously determined that some activities, including the disposal of PCBs in accordance with those regulations, pose no unreasonable risks. Other activities, such as long-term storage of PCB waste, are generally considered by the EPA to pose unreasonable risks.

2. Benefits and costs. The benefits to society of granting an exemption vary, depending on the activity for which the exemption is requested. The reasonably ascertainable costs of denying an exemption also vary, depending on the individual petition. As discussed in Section IV of this preamble, the EPA has taken benefits and costs into consideration when evaluating this exemption petition.

B. Good Faith Efforts Finding

Section 6(e)(3)(B)(ii) of TSCA requires the Administrator to find that “good faith efforts have been made to develop a chemical substance which does not present an unreasonable risk of injury to health or the environment and which may be substituted for [PCBs].” The EPA expects a petitioner to demonstrate in its petition how this standard is met. (See 40 CFR 750.11.) The EPA considers several factors in determining whether good faith efforts have been made. For each petition, the EPA considers the kind of exemption the petitioner is requesting. In each case, the burden is on the petitioner to show specifically what was done to substitute non-PCB material for PCBs or to show why it was not feasible to substitute non-PCBs for PCBs.

To satisfy this finding for requests for an exemption to import PCBs for disposal, a petitioner must show why such activities should occur in the United States and what steps have been taken to develop a substitute. While requiring a petitioner to demonstrate that good faith efforts to develop a substitute for PCBs makes sense when dealing with exemption petitions for traditional manufacture and distribution in commerce, the issue of the development of substitute chemicals seems to have little bearing on whether to grant a petition for exemption that would allow the import into the United States for disposal of PCB waste. However, because section 6(e)(3)(B) allows a petitioner to request an exemption from any of the prohibitions listed in section 6(e)(3)(A), it is appropriate to apply the standard in a way that is relevant to the particular exemption requested. Therefore, the relevant “good faith” issue for an exemption request to import PCBs for disposal in the customs territory of the United States is whether the disposal of the waste could and/or should occur outside the United States.

IV. Final Disposition of This Exemption Petition

A. The Petition: April 23, 2013 Petition to Import PCBs Located in Japan

On April 23, 2013, DLA submitted a petition seeking a 1-year exemption to import PCBs and PCB Items currently in storage at U.S. military installations in Japan (Ref. 1). DLA estimates as much as 1,014,222 pounds of waste contaminated with PCBs could be generated in Japan through calendar year 2014. The material in Japan consists of transformers (drained and un-drained), large and small capacitors, voltage regulators, switches, electromagnets, circuit breakers, reclosers, electrical cable, electric light ballasts, used dielectric fluids containing PCBs, and PCB-contaminated soil and debris (e.g., rags, small parts, packaging materials). Ninety four percent of the waste is at PCB concentrations below 50 ppm. Details of the particular amounts and concentrations DLA is petitioning to import can be found in Attachment 1 of the DLA petition, which can be found in the docket to this rulemaking. The EPA has concluded that import of the DLA PCBs will not cause a shortage of domestic PCB storage or disposal capacity. In addition, the EPA has concluded the amounts of PCBs available for import are small in comparison to domestic generation, and pose little threat of overwhelming domestic disposal capacity (Ref. 4).

1. Information Regarding No Unreasonable Risk Provided by the Petitioner

DLA will package, transport, treat, and dispose of these PCBs in the same manner as PCBs identified in its previous petitions, which the EPA granted in 2003 and 2007 to allow the import of up to 4,293,621 and 1,328,428 pounds of waste contaminated with PCBs, respectively (Ref. 2, 3). Specifically, DLA notes its adherence to applicable modal and inter-modal national and/or international packaging, marking, labeling and shipping paper regulations, such as the United Nations Performance Oriented Packaging (UNPOP) standards, the International Maritime Dangerous Goods (IMDG) Code/International Maritime Organization (IMO) requirements, the International Civil Aviation Organization (ICAO) Technical Instructions, requirements of the International Air Transport Association (IATA), United Nations (UN) Recommendations on the Transport of Dangerous Goods Code, and provisions of the Hazardous Materials Regulations at 49 CFR 100-199. DLA further notes that proper handling and shipping will include blocking, bracing, over packing, and inclusion of spill containment devices, as required by applicable transportation regulations.

DLA further indicates it will handle and dispose of all PCBs and PCB Items in conformance with the PCB regulations at 40 CFR part 761. DLA has considerable experience and expertise in awarding and administering disposal contracts for PCBs and PCB Items in the U.S. and will award contracts with commercial firms in accordance with all applicable Federal procurement statutes and the Federal Acquisition Regulations (FAR). DLA additionally notes only companies with the required Federal and/or state-permits for the transportation, storage, treatment and disposal of PCBs and PCB Items would be considered as eligible for award of such contracts. DLA's exemption petition does not request to limit the storage, treatment or disposal of PCBs and PCB Items imported from Japan to management at a particular facility; rather DLA requests any storage, treatment, or disposal facility that has the appropriate Federal and/or state permits for PCBs and PCB Items and for which DLA has entered a contract be allowed to manage these materials.

DLA notes that it and its contractors have extensive experience in safely returning PCBs and PCB Items to the United States for treatment and disposal, and that DLA has returned several million pounds of PCBs and PCB Items for compliant disposal in the United States, including 3.6 million pounds of foreign-manufactured PCBs and PCB Items imported under the two previously granted exemptions. As noted previously, DLA had authority to import up to 5.5 million pounds of PCBs and PCB Items under the previous two exemptions. Throughout the course of this experience, DLA has used the same standards and procedures discussed above without spills or safety problems affecting human health or the environment.

2. Information Regarding Good Faith Efforts Provided by the Petitioner

DLA states in its petition that disposal of its PCBs and PCB Items in Japan is not an available disposal option. Specifically, as DLA noted in its exemption request, there are significant impediments to disposal on DOD military installations in Japan. For example, while there may exist certain mobile technology capable of treating some of the PCBs and PCB Items generated by United States military forces in Japan, there are also significant impediments to obtaining the permits that would be required to have that technology approved for use on United States military installations, where residual wastes and metals would still need to be taken off-installation for disposal. Complicating the situation further is any transfer or sale of property from the U.S. military installations into Japanese commerce is considered an “import” of property. Japan has banned the importation of PCBs and PCB Items at any detectable concentration, including concentrations below the very stringent 0.5 ppm level at which Japan regulates domestic PCBs. DLA's market research suggested a potential option could exist for disposal of some limited waste streams in newly permitted Japanese facilities (i.e., “off- installation” disposal). However, DLA has not been able to identify any change in Japanese law that would allow off-installation disposal in Japan nor the existence of any properly permitted vendor or technology that would be currently available to properly treat the DOD generated PCBs and PCB Items within the confines of the United States installations in Japan. Accordingly, on-site treatment does not present a reasonable alternative to the import of these wastes for proper disposal in the United States in compliance with the TSCA Section 6(e)(3).

DLA further notes disposal of this waste in another country is not a viable option. DLA cites its 1999 Report to Congress as background on the difficulty it faces in finding suitable disposal alternatives for PCBs and PCB Items generated or owned by DOD overseas. In particular, DLA discusses the difficulty of shipping waste from Japan to other countries as a result of the Basel Convention. Prior to its previous petitions, DLA and its primary disposal contractor made extensive contacts over a period of several years with Japanese officials and disposal facilities in numerous locations outside the United States in an effort to identify firms who could dispose of such PCBs and PCB Items while satisfying the Basel Convention requirements. At that time, the DOD also consulted at length with State Department officials in Japan and in the United States whose responsibilities include international environmental matters. The variety of problems identified in these contacts regarding overseas disposal of certain PCB Items resulted in a consensus that use of existing facilities in other developed countries was not a reasonable alternative. Even if other countries had the physical capacity to accept these wastes, non-governmental organizations might be expected to oppose the DOD's disposal of its waste in third countries (that is, countries other than Japan and the United States) because the United States has the technical capability to properly dispose of the hazardous materials itself.

DLA concludes that its diligent but so far unsuccessful attempts to locate appropriate disposal sites outside the United States demonstrate its good faith efforts to pursue alternatives to disposal within the United States and fulfill the requirements of TSCA 6(e)(3)(B).

B. What comment did the EPA receive and how is it addressed?

On April 2, 2014, the EPA published a direct final rule with an accompanying proposed rule in the Federal Register (79 FR 18471). In that rule, we noted if adverse comments or a request for an informal hearing were received, then the EPA would publish a timely withdrawal in the Federal Register informing the public that this rule would not take effect based on the direct final rule. We also stated that we would then address all public comments in any subsequent final rule based on the proposed rule which accompanied the direct final rule.

During the public comment period, the EPA received one adverse comment and request for informal hearing. The comment received states in part, “In brief, since the first two permissions were granted in 2003 and 2007, there have been alarming increases in previously rare malignancies such as melanoma and liver carcinoma. Additionally even common malignancies such as breast cancer have had substantial rises. PCBs have also been linked to endocrine disorders such as diabetes and obesity both of which have seen dramatic increasing trends” (Docket Document ID EPA-HQ-RCRA-2013-0396-0004). The comment did not include specific information to support the claim of increased numbers of cancers nor did the comment include any support for the claim that this increase is due to PCB exposures.

On June 13, 2014, the EPA published a withdrawal of the direct final rule and notice of informal hearing (79 FR 33867). During the informal hearing, held on July 8, 2014, the EPA received one presentation, which was submitted by the same person who submitted the adverse comment and request for an informal hearing. The presentation included a request for the EPA to update EPA's classification of PCBs from a probable human carcinogen to a known human carcinogen, as well as included citations to studies purportedly indicating a connection between certain types of cancers and PCBs (Docket Document ID EPA-HQ-RCRA-2013-0396-0011). In the direct final rule for this action, as well as re-stated in this final rule, the EPA recognizes cancer as a possible health effect from exposure to PCBs. Therefore, neither information in the comment nor in the presentation characterizes risks of PCBs that were not previously considered by the EPA, and the information does not change EPA's evaluation that granting this exemption will not result in an unreasonable risk of injury to health or the environment. Specifically, the additional research states cancer has been associated with PCB exposure, and argues PCBs are causal for a specific cancer (e.g., non-Hodgkin lymphoma), is insufficient to demonstrate that proper disposal in accordance with our regulations would result in an unreasonable risk. The PCB wastes under this exemption must be properly disposed of according to the regulations set forth in 40 CFR part 761.

C. EPA's Final Decision on the Petition: April 23, 2013 Petition; EPA is Granting This Petition

1. No unreasonable risk determination. The EPA finds generally that the disposal of imported PCBs and PCB Items at an EPA-approved PCB disposal facility poses no unreasonable risks as these facilities have been approved on the basis of that standard. In addition, as with the previous two petitions, the EPA concurs with DLA's assessment that transportation of this waste will pose no unreasonable risk if conducted in accordance with all applicable laws and regulations. Therefore, for the following reasons, the EPA finds there is no unreasonable risk from importing the PCBs and PCB Items by DLA from Japan to the United States for disposal, as outlined below.

i. PCBs are hazardous and pose a potential risk to health and the environment. Proper disposal in accordance with the 40 CFR part 761 regulations would reduce PCB-associated risks.

ii. Risk results from a combination of exposure (likelihood, magnitude and duration) and the probability of effects occurring under the conditions of exposure. Because the probability of a transport accident occurring is low (Ref. 4), the likelihood of exposure to PCBs is commensurately low. Consequently, the probability of adverse effects to human health or the environment is low.

iii. The PCB-containing materials will be packaged in a manner consistent with Federal, State, and local regulations addressing the risks associated with the storage and transportation of hazardous wastes. In addition, PCB waste will be continuously monitored during the ocean transport from Japan to the United States. Contingency plans are required by the International Maritime Dangerous Goods Code and U.S. Department of Transportation (DOT) to be in place before and after the import of PCB-containing items to the United States. Moreover, the PCB Items that will be transported to the United States generally have a low combustion likelihood, which will make the probability of fires low. Together, these contingency measures will minimize exposure to humans and the environment in the event of an accident or emergency during ocean transport.

iv. Given the aforementioned information, the exposure likelihood, frequency, and duration are so low that even though PCBs are considered to be highly hazardous, any risk resulting from the combined exposure and hazard potential would not be unreasonable to human health or the environment.

v. The potential for human health risks are further mitigated by the limited duration of potential exposure. Under the transport scenario proposed, any exposures to humans (i.e., accidental or emergency situation) would be of very short duration. Hence, the low probability of exposure occurring combined with the short-term duration of exposure, should one occur, further support a qualitative conclusion that there is no unreasonable risk to human health.

vi. The long-term concern is the potential for accumulation in the ecological environment. Under a worst case scenario where all of the PCBs were released due to an unforeseen and unlikely catastrophic event during transport, PCB-exposed biological receptors could be adversely affected. However, this scenario would require a failure of all safeguards that will be in place. Furthermore, the alternative of storing the PCBs indefinitely seems to pose more risk than transport. Moreover, should an accident occur, emergency response authorities would be invoked to mitigate and/or remediate exposures.

2. Good faith efforts to find substitutes met. Section 6(e)(3)(B)(ii) of TSCA requires the Administrator to make an additional finding, that “good faith efforts have been made to develop a chemical substance that does not present an unreasonable risk of injury to health or the environment and which may be substituted for such polychlorinated biphenyl.” The EPA has interpreted this provision to require that a petitioner has the burden of demonstrating that it has made the requisite good faith efforts to identify alternatives to management of the PCB waste in the United States. (See 40 CFR 750.11).

The EPA finds that DLA has demonstrated good faith efforts to find alternatives to disposal of this PCB waste in the United States. The EPA acknowledges the restrictions to disposing of this waste in Japan. DLA has also explored exporting this waste to other countries as an alternative. However, DLA has indicated, and the EPA acknowledges, the peculiar circumstances of DOD's PCBs and PCB Items, which, while present in one country (i.e., Japan), are generated by another country's government, leading to significant difficulty in providing Basel Convention notification to third countries. Given these difficulties, the EPA concurs with DLA's conclusion that disposal in a third country (that is, countries other than Japan and the United States) is not a viable alternative for this waste.

3. Benefits of Granting the Petition

i. Avoiding the risks of long-term storage. The EPA believes granting the petition to DLA to import 1,014,222 pounds of waste contaminated with PCBs (94% of which is less than 50 ppm) will benefit the United States and the environment in general. As DLA notes, the continued long-term storage of PCB waste on U.S. military facilities in Japan poses risks to U.S. personnel and the environment—risks that can be eliminated through the action finalized in the petition.

ii. Ensuring proper and safe disposal. Granting the petition allows the United States to accept responsibility for the PCBs and PCB Items it generates by assuring proper and safe disposal in domestic permitted disposal facilities.

iii. Ensuring the safety of Japanese citizens. The EPA considers the reduction of risk to Japanese citizens to be advantageous, especially in light of the heightened concerns over PCBs in that country. Granting the petition is the only practical mechanism to remove this waste from Japan; otherwise, the U.S. military would be required to explain to its Japanese hosts that it cannot remove its own toxic waste from their country because U.S. law does not allow the waste to be sent to the United States.

For all these reasons, the EPA finds DLA has satisfied the exemption criteria of TSCA section 6(e)(3)(B) and is granting the petition.

V. References

1. DOD, DLA. Petition from David Rodriguez, Director to EPA. Subject: Petition to the United States Environmental Protection Agency For an Exemption Under the Toxic Substances Control Act to Import Polychlorinated Biphenyls (PCB) and PCB Items for Disposal. April 23, 2013. 19 pp.

2. EPA, OPPT. Polychlorinated Biphenyls; Manufacturing (Import) Exemption. Final Rule. Federal Register (72 FR 53152, September 18, 2007) (FRL-8143-4). Available on-line at https://www.federalregister.gov/articles/2007/09/18/E7-18345/polychlorinated-biphenyls-manufacturing-import-exemption, Document ID: EPA-HQ-OPPT-2005-0042-0008.

3. EPA, OPPT. Polychlorinated Biphenyls; Manufacturing (Import) Exemptions. Final Rule. Federal Register (68 FR 4934, January 31, 2003) (FRL-7288-6). Available on-line at http://www.federalregister.com/Browse/Document/usa/na/fr/2003/1/31/03-2344, Document ID: EPA-HQ-OPPT-2002-0013-0041.

4. EPA, OPPT. Disposal of Polychlorinated Biphenyls; Import for Disposal. Final Rule. Federal Register (61 FR 11095, March 18, 1996) (FRL-5354-8). Available on-line at http://www.epa.gov/fedrgstr/EPA-TOX/1996/March/Day-18/pr-24122.txt.html.

5. EPA, OPPT. Polychlorinated Biphenyls (PCBs); Reassessment of Use Authorizations. Advanced Notice of Proposed Rulemaking. Federal Register (75 FR 17645, April 7, 2010). (FRL-8811-7). Available on-line at http://www.regulations.gov, Document ID: EPA-HQ-OPPT-2009-0757-0001.

6. The U.S. Department of Agriculture, Public Health Service, Agency for Toxic Substances and Disease Registry (ATSDR) Toxicological Profile for Polychlorinated Biphenyls (PCBs) (November 2000). Available online at http://www.atsdr.cdc.gov/toxprofiles/tp17.pdf.

VI. Statutory and Executive Order Reviews

Under Executive Order 12866 (58 FR 51735, October 4, 1993) and Executive Order 13563 (76 FR 3821, January 21, 2011), this action is not a “significant regulatory action” and is therefore not subject to OMB review. Because this action is not subject to notice and comment requirements under the Administrative Procedure Act or any other statute, it is not subject to the Regulatory Flexibility Act (5 U.S.C. 601 et seq.) or Sections 202 and 205 of the Unfunded Mandates Reform Act of 1999 (UMRA) (Pub. L. 104-4). In addition, this action does not significantly or uniquely affect small governments. This action does not create new binding legal requirements that substantially and directly affect Tribes under Executive Order 13175 (65 FR 67249, November 9, 2000). This action does not have significant Federalism implications under Executive Order 13132 (64 FR 43255, August 10, 1999). Because this final rule has been exempted from review under Executive Order 12866, this final rule is not subject to Executive Order 13211, entitled Actions Concerning Regulations That Significantly Affect Energy Supply, Distribution, or Use (66 FR 28355, May 22, 2001) or Executive Order 13045, entitled Protection of Children from Environmental Health Risks and Safety Risks (62 FR 19885, April 23, 1997). This final rule does not contain any information collections subject to OMB approval under the Paperwork Reduction Act (PRA), 44 U.S.C. 3501 et seq., nor does it require any special considerations under Executive Order 12898, entitled Federal Actions to Address Environmental Justice in Minority Populations and Low-Income Populations (59 FR 7629, February 16, 1994). This action does not involve technical standards; thus, the requirements of Section 12(d) of the National Technology Transfer and Advancement Act of 1995 (15 U.S.C. 272 note) do not apply. This action is subject to the Congressional Review Act, and the EPA will submit a rule report to each House of the Congress and to the Comptroller General of the United States. Under the CRA, a “major rule” cannot take effect until 60 days after it is published in the Federal Register. This action is not a “major rule” as defined by 5 U.S.C. 804(2).

List of Subjects in 40 CFR Part 761

Environmental protection, Hazardous substances, and Polychlorinated biphenyls.

Dated: September 19, 2014.
Mathy Stanislaus,
Assistant Administrator, Office of Solid Waste and Emergency Response.

For the reasons set out in the preamble, title 40, chapter I of the Code of Federal Regulations is amended as follows:

PART 761—POLYCHLORINATED BIPHENYLS (PCBs) MANUFACTURING, PROCESSING, DISTRIBUTION IN COMMERCE, AND USE PROHIBITIONS

1. The authority citation for Part 761 continues to read as follows:

Authority: 15 U.S.C. 2605, 2607, 2611, 2614, and 2616.

Subpart E—[Amended]

2. Section 761.80 is amended by revising paragraph (j) to read as follows:

§ 761.80 Manufacturing, processing and distribution in commerce exemptions.

* * * * *

(j) The Administrator grants the United States Defense Logistics Agency's April 23, 2013 petition for an exemption for 1 year beginning on October 1, 2014, to import up to 1,014,222 pounds of PCBs and PCB Items stored or in use in Japan as identified in its petition for disposal.

* * * * *

[FR Doc. 2014-23104 Filed 9-26-14; 8:45 am]

BILLING CODE 6560-50-P